DEPARTMENT OF COMMERCE

International Trade Administration

[A-570-865]

Preliminary Rescission of Antidumping Duty Administrative Review: Certain Hot-Rolled Carbon Steel Flat Products from the People's Republic of China

AGENCY: Import Administration, International Trade Administration, Department of Commerce.

EFFECTIVE DATE: June 11, 2007.

FOR FURTHER INFORMATION CONTACT: Catherine Bertrand or Christopher Riker, Import Administration, International Trade Administration, U.S. Department of Commerce, 14th Street and Constitution Avenue, NW, Washington, DC 20230; telephone: (202) 482-3207 and (202) 482-3441, respectively.

SUPPLEMENTARY INFORMATION:

Background

On November 1, 2006, the Department of Commerce (“Department”) published a notice of opportunity to request an administrative review of the antidumping duty order on certain hot-rolled carbon steel flat products from the People's Republic of China (“PRC”) for the period of review (“POR”) November 1, 2005, through October 31, 2006. See Antidumping or Countervailing Duty Order, Finding, or Suspended Investigation; Opportunity to Request Administrative Review, 71 FR 64240 (November 1, 2006). On November 30, 2006, United States Steel (“Petitioner”), a domestic producer of certain hot-rolled carbon steel flat products, requested that the Department conduct an administrative review of Anshan Iron & Steel Group Corp., Angang Group International Trade Corporation, Angang New Iron and Steel Co., Angang New Steel Co., Ltd., and Angang Group Hong Kong Co., Ltd. (collectively “Angang”) and Baosteel Group Corporation, Shanghai Baosteel International Economic & Trading Co., Ltd., and Baoshan Iron and Steel Co., Ltd. (collectively “Baosteel”). On December 27, 2006, the Department published a notice of initiation of an antidumping duty administrative review on certain hot-rolled carbon steel flat products from the PRC. See Initiation of Antidumping and Countervailing Duty Administrative Reviews and Request for Revocation in Part (“Notice of Initiation”), 71 FR 77720 (December 27, 2006).

On January 4, 2007, the Department issued a quantity and value questionnaire to Angang and Baosteel. On January 18, 2007, Angang submitted a letter stating that Angang had no sales, shipments, or entries of subject merchandise to the United States during the POR. Also on January 18, 2007, Baosteel submitted a letter stating that it had no sales of subject merchandise to the United States during the POR.

On February 7, 2007, Petitioner submitted information on the record of this review, in the form of Port Import Export Reporting Service (“PIERS”) data, which is a subscription service based upon shipping manifests, alleging that there were entries made of subject merchandise into the United States during the POR by Angang and Baosteel. On February 13, 2007, the Department requested that Angang and Baosteel provide comments on the PIERS data placed on the record by Petitioner. Also, on February 13, 2007, the Department requested that Petitioner provide the Harmonized Tariff Codes for the data it provided from PIERS and explain how the information it placed on the record could be tied to actual entry documentation from U.S. Customs and Border Protection (“CBP”). Baosteel submitted comments on February 16, 2007, and on March 6, 2007, again stating that it had no shipments, sales, or entries of subject merchandise during the POR to the United States, and provided supporting sales documentation for the entries listed in the PIERS data to demonstrate that those entries were not subject merchandise. On February 20, 2007, Angang responded to the Department's February 13, 2007, questionnaire, and stated again that it had no shipments, sales, or entries of subject merchandise during the POR, and alleged that the PIERS data placed on the record by Petitioner was not reflective of the actual material that was shipped by Angang. Also, on February 20, 2007, Petitioner submitted a response to the Department's February 13, 2007, questionnaire, and placed a revised version of the PIERS data on the record which contained the tariff code numbers.

The Department conducted a CBP data query for possible entries of subject merchandise into the United States during the POR by Angang and Baosteel. The data query response indicated that there were no shipments by either Angang or Baosteel during the POR.

On January 16, 2007, we sent inquiries to CBP requesting notification as to whether it had information indicating that there were shipments of subject merchandise into the United States during the POR by Angang or Baosteel. We received responses from several CBP ports indicating that certain shipments by Baosteel to the United States during the POR may contain subject merchandise. We requested all of the documentation relating to these shipments and placed the documentation on the record. See Memorandum to the File from Catherine Bertrand dated April 11, 2007. On April 11, 2007, we sent Baosteel a questionnaire regarding the entry documentation, and requested that Baosteel explain whether the entries were subject merchandise. On May 2, 2007, Baosteel responded and maintained that the entries in the entry documentation were for cold-rolled carbon steel which is outside the scope of the antidumping duty order. See Baosteel's May 2, 2007, submission: Response to April 11, 2007 Questionnaire. Petitioner did not provide comments on Baosteel's May 2, 2007, submission.

Scope of the Review

For purposes of this review, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this review.

Specifically included within the scope of this review are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this review, regardless of definitions in the Harmonized Tariff Schedule of the United States (HTSUS), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this review:

• Alloy hot-rolled steel products in which at least one of the chemical elements exceeds those listed above (including, e.g., American Society for Testing and Materials (ASTM) specifications A543, A387, A514, A517, A506).

• Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this review is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the written description of the merchandise under review is dispositive.

Period of Review

The POR is November 1, 2005, through October 31, 2006.

Preliminary Rescission of Review

The Department has analyzed all of the information on the record regarding alleged U.S. entries of subject merchandise during the POR by Angang and Baosteel. As noted above, Petitioner placed information on the record from PIERS that indicated there may have been U.S. entries of subject merchandise during the POR from Angang and Baosteel.

The legal description of what enters the Unites States is determined by CBP entry documentation. Where a conflict exists between PIERS and CBP information, the Department weighs the CBP data more heavily because it contains the actual entry documentation for the shipment, including the Customs 7501 form, invoice, and bill of lading. The CBP data regarding Baosteel indicates that the merchandise is not subject to the order covering this review. Additionally, the supporting documents placed on the record by Baosteel concerning these entries indicate that the merchandise at issue was cold-rolled steel, which is not subject to the scope of the order. CBP did not indicate that there were any shipments from Angang of subject merchandise into the United States during the POR. Therefore, the Department preliminarily finds that the merchandise from the entry documentation is not subject to the scope of the antidumping duty order on hot-rolled carbon steel flat product from the PRC.

Because there is no information on the record which indicates that either Angang or Baosteel made sales, shipments, or entries to the United States of subject merchandise during the POR, and because Angang and Baosteel are the only companies subject to this administrative review, in accordance with 19 CFR 351.213(d)(3) and consistent with our practice, we are preliminarily rescinding this review of the antidumping duty order on certain hot-rolled carbon steel flat products from the PRC for the period of November 1, 2005, to October 31, 2006. If the rescission is confirmed in our final results, the cash deposit rate for Angang and Baosteel will continue to be the rate established in the most recently completed segment of this proceeding.

Interested parties may submit comments for consideration in the Department's final results not later than 30 days after publication of this notice. Responses to those comments may be submitted not later than 10 days following submission of the comments. All written comments must be submitted in accordance with 19 CFR 351.303, and must be served on interested parties on the Department's service list in accordance with 19 CFR 351.303(f). The Department will issue the final results of this administrative review, which will include the results of its analysis of issues raised in any such comments, within 120 days of publication of the preliminary results, and will publish these results in the Federal Register.

This notice is published in accordance with sections 751 and 777(i)(1) of the Tariff Act of 1930, as amended, and 19 CFR 351.213(d)(4).

Dated: May 31, 2007.
Stephen J. Claeys,
Deputy Assistant Secretary for Import Administration.

[FR Doc. E7-11206 Filed 6-8-07; 8:45 am]

BILLING CODE 3510-DS-S